DEPARTMENT OF COMMERCE

National Telecommunications and Information Administration

Measuring Cross-Border Data Flows: Unmet Data Needs Roundtable

AGENCY: National Telecommunications and Information Administration, U.S. Department of Commerce.

ACTION: Notice of open meeting.

SUMMARY: As part of the Digital Economy Agenda, the Department of Commerce is working to identify data gaps in measuring the importance of cross-border data flows and the economic impact of restrictions to the free-flow of data. Through this Notice, we announce a roundtable to facilitate a discussion with stakeholders and experts as a first step in improving the Department's understanding of those data gaps and related economic questions.

DATES: The roundtable will be held on May 9, 2016, from 8:30 a.m. to 12:00 p.m., Eastern Daylight Time.

ADDRESSES: The roundtable will be held at the Bureau of Labor Statistics Conference Center, 2 Massachusetts Avenue NE., Washington, DC

FOR FURTHER INFORMATION CONTACT: Giulia McHenry, Chief Economist, NTIA, at (202) 482-0061 or gmchenry@ntia.doc.gov; Jessica Nicholson, Economist, Office of the Chief Economist, Department of Commerce at (202) 482-2343 or jnicholson@doc.gov and/or visit NTIA's Web site at www.ntia.doc.gov.

SUPPLEMENTARY INFORMATION: The Department of Commerce (Commerce) recognizes that worldwide data usage and data flows between countries are growing and becoming an increasingly important component of international trade and communication between individuals and businesses worldwide. It is generally accepted that cross-border data flows increase economic opportunity and restrictions to these flows are economically detrimental, but there is relatively little supporting data or evidence. Commerce is working to identify data gaps in measuring the importance of cross-border data flows and the economic impact of restrictions to the free-flow of data. We are hosting this roundtable of stakeholders and experts as a first step in improving the information available to data users and other stakeholders. The goal of this roundtable is to get input from stakeholders on what additional data and analysis on cross-border data flows is necessary.

NTIA will post a detailed agenda on its Web site, www.ntia.doc.gov, prior to the meeting. The roundtable will include two-break-out sessions during which subject-matter experts will be divided into small groups for the purpose of providing insight and feedback on specific questions related to data needs. After each session, the groups will be asked to briefly report back the main takeaways from their discussions. Agenda topics and format are subject to change.

The roundtable will be open to observers and press on a first-come, first-served basis. Space is limited. Attendees must present valid government-issued photo identification upon arrival in order to enter the building.

So that we may plan appropriately to accommodate all interested persons, attendees are asked to provide prior notice of their intention to attend by sending an email to Giulia McHenry at or gmchenry@ntia.doc.gov, or Jessica Nicholson at jnicholson@doc.gov no later than Thursday, May 5, 2016 at 12 p.m., Eastern Daylight Time.

The public meeting is physically accessible to people with disabilities. Individuals requiring accommodations, such as sign language interpretation or other ancillary aids, are asked to notify Giulia McHenry at (202) 482-0061 or gmchenry@ntia.doc.gov, at least five (5) business days before the meeting.

Please contact Giulia McHenry at (202) 482-0061 or gmchenry@ntia.doc.gov; Jessica Nicholson at (202) 482-2343 or jnicholson@doc.gov; and/or visit NTIA's Web site at www.ntia.doc.gov for the most up-to-date meeting agenda and access information.

Dated: April 20, 2016.
Kathy D. Smith,
Chief Counsel, National Telecommunications and Information Administration.

[FR Doc. 2016-09500 Filed 4-22-16; 8:45 am]

BILLING CODE 3510-60-P